DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on November 2-3, 2009, in Room 230 at the Department of Veterans Affairs, 810 Vermont Avenue, NW., Washington, DC. The sessions will start at 8 a.m. each day and end at 5:15 p.m. on November 2 and at 1 p.m. on November 3. The meeting is open to the public.

The purpose of the Committee is to provide advice and make recommendations to the Secretary of Veterans Affairs on proposed research studies, research plans and research strategies relating to the health consequences of military service in the Southwest Asia theater of operations during the Gulf War.

The Committee will review VA program activities related to Gulf War Veterans' illnesses and updates on relevant scientific research published since the last Committee meeting. Additionally, there will be presentations and discussion of background information on the Gulf War and Gulf War Veterans' illnesses, chronic health effects of exposures to insecticides and pesticides, potential treatments for fibromyalgia and symptoms affecting ill Gulf War Veterans, and discussion of Committee business and activities.

Public comments will be received at 4:45 until 5:15 p.m. on November 2 and at 12:30 until 1 p.m. on November 3. Public comments will be limited to five minutes each. A sign-up sheet will be available at the meeting. Individuals wishing to make oral statements before the Committee will be accommodated on a first-come, first-serve basis. Individuals who speak are invited to submit a 1- to 2-page summary of their comments at the time of the meeting for inclusion in the official meeting record. Members of the public may also submit written statements for the Committee's review to Dr. Roberta White, Chair, Department of Environmental Health, Boston University School of Public Health, 715 Albany St., T2E, Boston, MA 02118, or at rwhite@bu.edu.

Any member of the public seeking additional information should contact Dr. White, Scientific Director, at (617) 638-4620 or Dr. William Goldberg, Designated Federal Officer, at (202) 461-1667.

Dated: October 19, 2009.
By direction of the Secretary.
Vivian Drake,
Acting Committee Management Officer.

[FR Doc. E9-25479 Filed 10-22-09; 8:45 am]

BILLING CODE 8320-01-P